DEPARTMENT OF TRANSPORTATION

Pipeline and Hazardous Materials Safety Administration

Hazardous Materials: Actions on Special Permit Applications

AGENCY: Pipeline And Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on November 4, 2015.
Don Burger,
Chief, Special Permits and Approvals Branch.

S.P. No. | Applicant | Regulation(s) | Nature of special permit thereof
MODIFICATION SPECIAL PERMIT GRANTED
15744-M | Praxair Distribution, Inc., Danbury, CT | 49 CFR 180.205; 180.209 | To modify the special permit to exempt the notation “DOT-SP” 15744 on shipping papers.
12562-M | Taeyang Industrial Company Ltd., Chung Nam | 49 CFR 173.304(d)(3)(ii) | To modify the special permit to authorize additional Division 2.1 hazardous materials and to add an additional inside container design.
16302-M | Ametek Inc., Pittsburgh, PA | 49 CFR 171.1 | To modify the special permit to authorize glass ampules with a 31 ml actual capacity and remove the 30 kg limit when ampules are installed in analyzing equipment.
16239-M | Trinity Containers, LLC, Dallas, TX | 49 CFR 171.7 | To reissue the special permit that was originally issued on an emergency basis with a two year renewal.
11054-M | Welker Inc., Sugar Land, TX | 49 CFR 178.36 subpart C | To modify the special permit to authorize additional hazardous materials.
NEW SPECIAL PERMIT GRANTED
16395-N | Chandler Instruments Company LLC Broken Arrow, OK | 49 CFR 173.201, 173.301(f), 173.302(a), 173.304 | To authorize the manufacture, mark, sale and use of non-DOT specification cylinders used in oil well sampling. (modes 1, 2, 3, 4).
16414-N | Gardner Cryogenics Department of Air Products and Chemicals Inc., Allentown, PA | 49 CFR 178.338 | To authorize the manufacture mark and sell of MC338 cargo tanks built to ASME Section XII standards(version in effect at time of manufacture) and stamping them with a “T” stamp associated with that section rather than the “U” stamp of current Federal Regulations. (modes 1, 3).
16498-N | FIBA Technologies, Inc. Littleton, MA | 49 CFR 172.203(a), 173.302a, 173.304a | Authorizes the manufacture, mark, sale and use of specification DOT 3T cylinders using an alternative heat treatment batch size. (modes 1, 2, 3).
16530-N | 3M Company, Saint Paul, MN | 49 CFR 173.301(f) | To authorize the transportation in commerce of Specification DOT 4BW cylinders containing certain toxic gases without pressure relief devices. (modes 1, 2, 3).
EMERGENCY SPECIAL PERMIT GRANTED
16590-N | U.S. Environmental Protection Agency, Middletown, CA | 49 CFR 171-180 | To authorize the transportation in commerce of hazardous materials used to support the recovery and relief efforts from and within Lake and Calaveras Counties in California, under conditions that may not meet the Hazardous Materials Regulations (HMR). (mode 1).
MODIFICATION SPECIAL PERMIT WITHDRAWN
5022-M | Aerojet Rocketdyne, Sacramento, CA | 49 CFR 174.101(L); 174.104(d); 174.112(a); 177.834(l)(1)
NEW SPECIAL PERMIT WITHDRAWN
16597-N | Aerojet/Rocketdyne Rancho Cordova, CA | 49 CFR 172.102(c)(1), special provision 37 | To authorize the transportation in commerce of liquid propellant (UN0497) that cannot meet § 172.102(c)(1), special provision 37. (mode 1).
DENIED
16396-N | Request by Eniware LLC Washington, DC October 7, 2015. To authorize the manufacture, mark, sale and use of sterilization devices containing two toxic gases in non-DOT specification containers (steel gas cartridges) as excepted quantities.
16356-N | Request by United Launch Alliance, LLC Centennial, CO October 16, 2015, the transportation in commerce of articles containing not more than 25 grams of solid explosive or pyrotechnic material that has energy density not significantly greater than that of pentaerythritol tetranitrate (PETN), classed as Division 1.4E when packed in a special shipping container.
16430-N | Request by Eniware LLC Washington, DC October 16, 2015. To authorize the manufacture, mark, sale and use of specialized packaging used to transport sterilization devices containing nitric acid as excepted quantities.
16575-N | Request by FIBA Technologies, Inc. Littleton, MA October 9, 2015. To authorize the manufacture, mark, sale and use of certain specification DOT 3AA, 3AAX, and 3T cylinders and UN ISO 11120 tubes that were witnessed during manufacture with real-time video feeds by an Independent Inspection Agency for certain tests.
16582-N | Request by Spectrum Brands Inc. Middleton, WI October 9, 2015. To authorize the transportation in commerce of damaged lithium metal cells for disposal in alternative packaging.

[FR Doc. 2015-29957 Filed 11-25-15; 8:45 am]

BILLING CODE 4910-60-M